NATIONAL SCIENCE FOUNDATION

45 CFR Part 670

Conservation of Antarctic Animals and Plants

AGENCY: National Science Foundation.

ACTION: Direct final rule.

SUMMARY: Pursuant to the Antarctic Conservation Act of 1978, The National Science Foundation (NSF) is amending its regulations to designate additional Antarctic Specially Protected Areas (ASPA). Also, NSF is adding to this rule in Antarctica designated by the Treaty Parties as Antarctic Specially Managed Areas (ASMA) and Historical Sites or Monuments (HSM). These additions only reflect measures already adopted by the Antarctic Treaty parties at Antarctic Treaty Consultative Meetings (ATCM). Finally, the regulation is being revised to correct some typographical and numbering errors.

DATES: November 14, 2005.

FOR FURTHER INFORMATION CONTACT: Bijan Gilanshah, Office of the General Counsel, at 703-292-8060, National Science Foundation, 4201 Wilson Boulevard, Room 1265, Arlington, Virginia 22230.

SUPPLEMENTARY INFORMATION: The Antarctic Conservation Act of 1978, as amended, (“ACA”) (16 U.S.C. 2401 et seq.) implements the Protocol on Environmental Protection to the Antarctic Treaty (“the Protocol”). Annex II of the Protocol contains provisions for conservation of native Antarctic plants and animals. Annex V contains provisions for the protection of specially designated areas. Section 2405 of title 16 of the ACA directs the Director of the National Science Foundation to issue such regulations as are necessary and appropriate to implement Annexes II and V to the Protocol.

The Antarctic Treaty Parties periodically adopt measures to establish additional specially protected areas, specially managed areas and historical sites or monuments in Antarctica. This rule is being revised to add two additional Antarctic specially protected areas, all specially managed areas and a comprehensive list of designated historical sites and monuments in Antarctica. The revisions also reiterate the ACA's prohibition on entering or engaging in activities within an Antarctic Specially Protected Area unless authorized by permit as well as the ACA's blanket prohibition on damaging, removing or destroying a Historic Site or Monument. No public comment is needed the addition of these areas or sites merely implements measures adopted by the Treaty Parties at various ATCM meetings.

Finally, these amendments correct typographical errors in the names and numerical listings of several specially protected areas previously published in § 670.29.

Determinations

NSF has determined, under the criteria set forth in Executive Order 12866, that this rule is not a significant regulatory action requiring review by the Office of Management and Budget. This rule involves a foreign affairs function of the United States and is, therefore, exempt from the notice requirements of section 553 of the Administrative Procedures Act and from regulatory flexibility analysis requirements of the Regulatory Flexibility Act, 5 U.S.C. 601-612. Although this rule is exempt from the Regulatory Flexibility Act, it has nonetheless been determined that this rule will not have a significant impact on a substantial number of small businesses. For purposes of the Paperwork Reduction Act (44 U.S.C. 3501 et seq.), these amendments to the existing regulations do not change the collection of information requirements contained in NSF's existing regulations, which have already been approved by the Office of Management and Budget.

List of Subjects in 45 CFR Part 670

Administrative practice and procedure, Antarctica, Exports, Imports, Plants, Reporting and recordkeeping requirements, Wildlife.

Dated: October 12, 2005.
Lawrence Rudolph,
General Counsel.

Pursuant to the authority granted by 16 U.S.C. 2405(a)(1), NSF hereby amends 45 CFR Part 670 as set forth below:

PART 670—[AMENDED]

1. The authority citation for Part 670 continues to read as follows:

Authority: 16 U.S.C. 2405, as amended.

2. Section 670.29 is revised to read as follows:

§ 670.29 Designation of Antarctic specially protected areas, specially managed areas and historic sites and monuments.

The following areas have been designated by the Antarctic Treaty Parties for special protection and are hereby designated as Antarctic Specially Protected Areas (ASPA). The Antarctic Conservation Act of 1978, as amended, prohibits, unless authorized by a permit, any person from entering or engaging in activities within an ASPA. Detailed maps and descriptions of the sites and complete management plans can be obtained from the National Science Foundation, Office of Polar Programs, National Science Foundation, Room 755, 4201 Wilson Boulevard, Arlington, Virginia 22230.

ASPA 101 Taylor Rookery, Mac. Robertson Land, East Antarctica

ASPA 102 Rookery Islands, Holme Bay, Mac. Robertson Land, East Antarctica

ASPA 103 Ardery Island and Odbert Island, Budd Coast, Wilkes Land, East Antarctica

ASPA 104 Sabrina Island, Balleny Islands

ASPA 105 Beaufort Island, Ross Sea (see ASPA 124)

ASPA 106 Cape Hallett, Victoria Land

ASPA 107 Emperor Island, Dion Islands, Marguerite Bay, Antarctic Peninsula (see Measure 1, 2002)

ASPA 108 Green Island, Berthelot Islands, Antarctic Peninsula

ASPA 109 Moe Island, South Orkney Islands

ASPA 110 Lynch Island, South Orkney Islands

ASPA 111 Southern Powell Island and adjacent Islands, South Orkney Islands

ASPA 112 Coppermine Peninsula, Robert Island, South Shetland Islands

ASPA 113 Litchfield Island, Arthur Harbour, Anvers Island, Palmer Archipelago

ASPA 114 Northern Coronation Island, South Orkney Islands

ASPA 115 Lagotellerie Island, Marguerite Bay, Antarctic Peninsula

ASPA 116 ‘New College Valley’, Caughley Beach, Cape Bird, Ross Island

ASPA 117 Avian Island, off Adelaide Island, Antarctic Peninsula

ASPA 118 ‘Cryptogam Ridge’, Mount Melbourne, Victoria Land

ASPA 119 Davis Valley and Forlidas Pond Pond, Dufek Massif

ASPA 120 ‘Pointe-Géologie Archipelego’, Terre Adélie

ASPA 121 Cape Royds, Ross Island

ASPA 122 Arrival Heights, Hut Point Peninsula, Ross Island

ASPA 123 Barwick and Balham Valleys (see Measure 1, 2002), Victoria Land

ASPA 124 Cape Crozier, Ross Island

ASPA 125 Fildes Peninsula, King George Island, South Shetland Islands

ASPA 126 Byers Peninsula, Livingston Island, South Shetland Islands

ASPA 127 Haswell Island

ASPA 128 Western shore of Admiralty Bay, King George Island

ASPA 129 Rothera Point, Adelaide Island

ASPA 130 ‘Tramway Ridge’, Mount Erebus, Ross Island

ASPA 131 Canada Glacier, Lake Fryxell, Taylor Valley, Victoria Land

ASPA 132 Potter Peninsula, ‘25 de Mayo’ (King George) Island, South Shetland Islands

ASPA 133 Harmony Point, west coast of Nelson Island, South Shetland Islands

ASPA 134 Cierva Point and offshore islands, Danco Coast, Antarctic Peninsula

ASPA 135 North-eastern Bailey Peninsula, Budd Coast, Wilkes Land

ASPA 136 Clark Peninsula, Budd Coast, Wilkes Land

ASPA 137 Northwest White Island, McMurdo Sound

ASPA 138 Linnaeus Terrace, Asgaard Range, Victoria Land

ASPA 139 Biscoe Point, Anvers Island

ASPA 140 Parts of Deception Island, South Shetland Islands

ASPA 141 ‘Yukidori Valley’, Langhovde, Lützow-Holmbukta

ASPA 142 Svarthamaren, Mühlig-Hofmannfjella, Dronning Maud Land

ASPA 143 Marine Plain, Mule Peninsula, Vestfold Hills, Princess Elizabeth Land

ASPA 144 ‘Chile Bay’ (Discovery Bay), Greenwich Island, South Shetland Islands

ASPA 145 Port Foster, Deception Island, South Shetland Islands

ASPA 146 South Bay, Doumer Island, Palmer Archipelago

ASPA 147 Ablation Valley-Ganymede Heights, Alexander Island

ASPA 148 Mount Flora, Hope Bay, Antaractic Peninsula

ASPA 149 Cape Shirreff and San Telmo Island, Livingston Island, South Shetland Islands

ASPA 150 Ardley Island, Maxwell Bay, King George Island

ASPA 151 Lions Rump, King George Island, South Shetland Islands

ASPA 152 Western Bransfield Strait off Low Island, South Shetland Islands

ASPA 153 Eastern Dallmann Bay off Brabant Island, Palmer Archipelago

ASPA 154 Botany Bay, Cape Geology, Victoria Land

ASPA 155 Cape Evans, Ross Island

ASPA 156 Lewis Bay, mount Erebus, Ross Island

ASPA 157 Backdoor Bay, Cape Royds, Ross Island

ASPA 158 Hut Point, Ross Island

ASPA 159 Cape Adare, Borchgrevink Coast

ASPA 160 Frazier Islands, Wilkes Land, East Antarctica (see Measure 2, 2003)

ASPA 161 Terra Nova Bay, Ross Sea

ASPA 162 Mawson's Huts, Commonwealth Bay, George V Land, East Antarctica (see Measure 2, 2004)

ASPA 163 Dakshin Gangotri Glacier, Dronning Maud Land

ASPA 164 Scullin and Murray Monoliths, Mac. Robertson Land, East Antarctica

(b) The following areas have been designated by the Antarctic Treaty Parties for special management and have been designated as Antarctic Specially Managed Areas (ASMA). Detailed maps and descriptions of the sites and complete management plans can be obtained from the National Science Foundation, Office of Polar Programs, National Science Foundation, Room 755, 4201 Wilson Boulevard, Arlington, Virginia 22230.

ASMA 1 Admiralty Bay, King George Island, South Shetland Islands

ASMA 2 McMurdo Dry Valleys, Southern Victoria Land

ASMA 3 Cape Denison, Commonwealth Bay, George V Land

ASMA 4 Deception Island, South Shetland Islands

(c) The following areas have been designated by the Antarctic Treaty Parties as historic sites or monuments (HSM). The Antarctic Conservation Act of 1978, as amended, prohibits any damage, removal or destruction of a historic site or monument listed pursuant to Annex V to the Protocol. Descriptions of the sites or monuments can be obtained from the National Science Foundation, Office of Polar Programs, National Science Foundation, Room 755, 4201 Wilson Boulevard, Arlington, Virginia 22230.

HSM 1 Flag mast at South Pole

HSM 2 Rock cairn and plaques on Ongul Island, Prins Harald Kyst

HSM 3 Rock cairn and plaques on Proclamation Island, Enderby Land

HSM 4 Bust and plaque at ‘Pole of Inaccessibility’

HSM 5 Rock cairn and plaques at Cape Bruce, Mac. Robertson Land

HSM 6 Rock cairn and canister at Walkabout Rocks, Vestfold Hills, Princess Elizabeth Land

HSM 7 Stone and plaque at Mabus Point, Queen Mary Land

HSM 8 Monument sledge and plaque at Mabus Point, Queen Mary Land

HSM 9 Cemetery on Buromskiy Island, Queen Mary Land

HSM 10 Observatory at Bunger Hills, Queen Mary Land

HSM 11 Tractor and plaque at Vostok Station

HSM 14 Ice cave at Inexpressible Island, Terra Nova Bay, Scott Coast

HSM 15 Hut at Cape Royds, Ross Island

HSM 16 Hut at Cape Evans, Ross Island

HSM 17 Cross at Cape Evans, Ross Island

HSM 18 Hut at Hut Point, Ross Island

HSM 19 Cross at Hut Point, Ross Island

HSM 20 Cross on Observation Hill, Ross Island

HSM 21 Hut at Cape Crozier, Ross Island

HSM 22 Hut at Cape Adare, Borchgrevink Coast

HSM 23 Grave at Cape Adare, Borchgrevink Coast

HSM 24 Rock cairn at Mount Betty, Queen Maud Range

HSM 26 Installations at Barry Island, Debenham Islands, Marguerite Bay, Antarctic Peninsula

HSM 27 Cairn with plaque at Megalestris Hill, Petermann Island, Antarctic Peninsula

HSM 28 Cairn, pillar and plaque at Port Charcot, Booth Island, Antarctic

HSM 29 Lighthouse on Lambda Island, Melchior Islands, Antarctic Peninsula

HSM 30 Shelter at Paradise Harbour, Danco Coast, Antarctic Penninsula

HSM 32 Monolith on Greenwich Island, South Shetland Islands

HSM 33 Shelter, cross and plaque on Greenwich Island, South Shetland Islands

HSM 34 Bust on Greenwich Island, South Shetland Islands

HSM 35 Cross and statute on Greenwich Island, South Shetland Islands

HSM 36 Plaque at Potter Cove, King George Island, South Shetland Islands

HSM 37 Statue at Trinity Peninsula, Antarctic Peninsula

HSM 38 Hut of Snow Hill Island, Antarctic Peninsula

HSM 39 Hut at Hope Bay, Trinity Peninsula, Antarctic Peninsula

HSM 40 Bust, grotto, statue, flag mast, graveyard and stele at Hope Bay, Trinity Peninsula, Antarctic Peninsula

HSM 41 Hut and grave at Paulet Island, Antarctic Peninsula

HSM 42 Huts, magnetic observatory and graveyard at Scotia Bay, Laurie Island, South Orkney Islands

HSM 43 Cross at “Piedrabuena Bay”, Filchner Ice Front, Weddell Sea

HSM 44 Plaque at Nivlisen Ice Front, Princesse Astrid Kyst, Dronning Maud Land

HSM 45 Plaque at Metchnikoff Point, Brabant Island, Antarctic Peninsula

HSM 46 Buildings and installations at Port-Martin, Terre Adélie

HSM 47 Buildings on Ĭle des Pétrels, Terre Adélie

HSM 48 Cross on Ĭle des Pétrels, Terre Adélie

HSM 49 Pillar at Bunger Hill, Queen Mary Land

HSM 50 Plaque at Fildes Peninsula, King George Island, South Shetland Islands

HSM 51 Grave and cross at Admiralty Bay, King George Island, South Shetland Islands

HSM 52 Monolith at Fildes Peninsula, King George Island, South Shetland Islands

HSM 53 Monolith and plaques on Elephant Island, South Shetland Islands

HSM 54 Bust on Ross Island

HSM 55 Buildings and artifacts on Stonington Island, Marguerite Bay, Antarctic Peninsula

HSM 56 Remains of hut and environs at Waterboat Point, Danco Coast, Antarctic Peninsula

HSM 57 Plaque at “Yankee Bay” (Yankee Harbour), MacFarlane Strait, Greenwich Island, South Shetland Islands

HSM 59 Cairn on Half Moon Beach, Cape Shirreff, Livingston Island, South Shetland Islands

HSM 60 Plaque and cairn at “Penguins Bay”, Seymour Island, James Ross Island archipelago

HSM 61 “Base A” at Port Lockroy, Goudier Island, off Wiencke Island, Antarctic Peninsula

HSM 62 “Base F (Wordie House)” on Winter Island, Argentine Islands

HSM 63 “Base Y” on Horseshoe Island, Marguerite Bay, western Graham Land

HSM 64 “Base E” on Stonington Island, Marguerite Bay, western Graham Land

HSM 65 Message post on Foyn Island, Possession Islands

HSM 66 Cairn at Scott Nunataks, Alexandra Mountains

HSM 67 Rock shelter “Granite House” at Cape Geology, Granite Harbour

HSM 68 Depot at Hells Gate Moraine, Inexpressible Island, Terra Nova Bay

HSM 69 Message post at Cape Crozier, Ross Island

HSM 70 Message post at Cape Wadworth, Coulman Island

HSM 71 Whaling station at Whalers Bay, Deception Island

HSM 72 Cairn on Tryne Islands, Vestfold Hills

HSM 73 Memorial Cross, Lewis Bay, Ross Island

HSM 74 Wreckage of sailing ship, Elephant Island, South Shetland Islands

HSM 75 “A Hut”, Pram Point, Ross Island

HSM 76 Ruins of base “Pedro Aguirre Cerda”, Pendulum Cove, Deception Island

HSM 77 Cape Denison, Commonwealth Bay, George V Land

HSM 78 Memorial Plaque at India Point, Humboldt Mountains, Wohlthat Massif, central Dronning Maud Land

HSM 79 Lilie Marleen Hut, Mt. Dockery, Everett Range, Northern Victoria Land

HSM 80 Amundsen's Tent

[FR Doc. 05-22545 Filed 11-10-05; 8:45 am]

BILLING CODE 7555-01-M